SMALL BUSINESS ADMINISTRATION

Small Business Size Standards: Waiver of the Nonmanufacturer Rule

AGENCY: U.S. Small Business Administration.

ACTION: Notice of intent to waive the Nonmanufacturer Rule for Warehouse Instantly Adjustable Racking Systems.

SUMMARY: The U.S. Small Business Administration (SBA) is considering granting a class waiver of the Nonmanufacturer Rule for Warehouse Instantly Adjustable Racking Systems. On October 2, 2014, SBA received a request that a class waiver be granted for Warehouse Instantly Adjustable Racking Systems under the North American Industry Classification System (NAICS) code 332999 (Miscellaneous Fabricated Metal Product Manufacturing), Product Service Code (PSC) 5450 (Miscellaneous Prefabricated Structures). According to the request, no small business manufacturers supply this class of products to the Federal government. Thus, SBA is seeking information on whether there are small business warehouse instantly adjustable racking systems manufacturers. If granted, the waiver would allow otherwise qualified small businesses to supply the products of any manufacturer on a Federal contract set aside for small businesses, Service-Disabled Veteran-Owned (SDVO) small businesses, Women-Owned small businesses (WOSB), Economically Disadvantaged Women-Owned small businesses (EDWOSB), or Participants in the SBA's 8(a) Business Development (BD) program.

DATES: Comments and source information must be submitted February 17, 2015.

ADDRESSES: You may submit comments and source information to Amy Garcia, Procurement Analyst, Small Business Administration, Office of Government Contracting, 409 3rd Street SW., Suite 8800, Washington, DC 20416; or by way of email to the Nonmanufacturer Rule Waiver program office at NonMfgRuleWaiverReqsts@sba.gov. Email communications should contain “Class Waiver—IAR Systems” in the subject line.

FOR FURTHER INFORMATION CONTACT: Ms. Amy Garcia, Procurement Analyst, by telephone at (202) 205-6842; by FAX at (202) 481-1630; or by way of email to the Nonmanufacturer Rule Waiver program office at NonMfgRuleWaiverReqsts@sba.gov.

SUPPLEMENTARY INFORMATION: Section 8(a)(17) and 46 of the Small Business Act (Act), 15 U.S.C. 637(a)(17) and 657s, and SBA's implementing regulations require that recipients of Federal supply contracts set aside for small businesses, SDVO small businesses, WOSBs, EDWOSBs, or Participants in the SBA's 8(a) BD Program provide the product of a small business manufacturer or processor, if the recipient is other than the actual manufacturer or processor of the product. This requirement is commonly referred to as the Nonmanufacturer Rule. 13 CFR 121.406(b), 125.15(c). Section 8(a)(17)(b)(iv) of the Act authorizes SBA to waive the Nonmanufacturer Rule for any “class of products” for which there are no small business manufacturers or processors available to participate in the Federal market.

In order to be considered available to participate in the Federal market for a class of products, a small business manufacturer must have submitted a proposal for a contract solicitation or received a contract from the Federal government within the last 24 months. 13 CFR 121.1202(c). The SBA defines “class of products” based on the Office of Management and Budget's NAICS.

The SBA is currently processing a request to waive the Nonmanufacturer Rule for Warehouse Instantly Adjustable Racking Systems under the North American Industry Classification System (NAICS) code 332999 (Miscellaneous Fabricated Metal Product Manufacturing), Product Service Code (PSC) 5450 (Miscellaneous Prefabricated Structures). The public is invited to comment or provide source information to SBA on the proposed waiver of the Nonmanufacturer Rule for the product within 15 days after date of publication in the Federal Register and on FedBizOpps.gov. More information about the Nonmanufacturer Rule and Class Waivers may be found on SBA's Web site at https://www.sba.gov/category/navigation-structure/contracting/contracting-officials/non-manufacturer-waivers.

Dated: January 20, 2015.
Seán F. Crean,
Director, Office of Government Contracting.

[FR Doc. 2015-01627 Filed 1-29-15; 8:45 am]

BILLING CODE 8025-01-P